DEPARTMENT OF COMMERCE

Foreign-Trade Zones Board

[Docket 33-2002]

Foreign-Trade Zone 226, Merced, Madera, Fresno and Tulare Counties, CA; Application for Expansion

An application has been submitted to the Foreign-Trade Zones (FTZ) Board (the Board) by the County of Merced, California, grantee of FTZ 226, requesting authority to expand and reorganize its zone in Tulare and Fresno Counties, California, within and adjacent to the Fresno Customs port of entry. The application was submitted pursuant to the provisions of the Foreign-Trade Zones Act, as amended (19 U.S.C. 81a-81u), and the regulations of the Board (15 CFR Part 400). It was formally filed on August 26, 2002.

FTZ 226 was approved on December 22, 1997 (Board Order 946, 63 F.R. 778, 1/7/98). A minor boundary modification (A(27f)-26-2002) was approved in mid-2002 which temporarily added and deleted certain sites. The zone project currently consists of the following sites within and adjacent to the Fresno Customs port of entry area: Site 1: (820 acres)—Castle Airport Morimoto Industrial Park (formerly Castle Air Force Base), 3450 C Street, Atwater (Merced County); Site 2 (48 acres total)—6 acres at 7530 W. Sunnyview, 12 acres at 8505 W. Doe Avenue and 30 acres at the corner of Ferguson Avenue and Plaza Drive within the MidState 99 Distribution Center, Visalia (Tulare County); Site 3 (191 acres)—Mid Cal Business Park, Highway 33, Gustine (Merced County); Site 4 (204 acres)—within the Applegate Business Park, Highway 33, Air Park Road, Atwater (Merced County); Site 4a (15 acres)—located at 810 E. Continental Avenue, Tulare (Tulare County); Site 5 (118 acres)—South Merced Airport Industrial Park, Albatross Avenue, Merced (Merced County); Site 6 (101 acres)—City of Madera Airport Industrial Park/State Center Commerce Park (within State Enterprise Zone), Falcon Drive, Madera (Madera County); Site 7 (10 acres)—City of Madera Industrial Park (within State Enterprise Zone), 2500 West Industrial Avenue, Madera (Madera County); Site 8 (102 acres)—Airways East Business Park, East Shields Avenue, Fresno (Fresno County); Site 9 (225 acres)—Central Valley Business Park, East North Avenue, Fresno (Fresno County); Site 10 (501 acres)—Fresno Airport Industrial Park/City of Clovis Industrial Park, Aircorp Way, Fresno and West Dakota Avenue & West Pontiac Way, Clovis (Fresno County); Site 11 (35 acres)—Reedley Industrial Park II, 1301 South Buttonwillow Avenue, Reedley (Fresno County); and, Site 12 (147 acres)—City of Selma Industrial Park, East Nebraska, Selma (Fresno County).

The applicant is now requesting authority to expand and reorganize the zone as described below. The proposal requests extension of zone status for parcels with temporary authority, permanent deletion of the sites/parcels that were temporarily deleted, deletion of certain additional sites, and expansion of existing Site 2 to include two new parcels.

Site 2 will be reorganized and expanded to include on a permanent basis the temporary sites at the MidState 99 Distribution Center (48 acres) and to add two new parcels (203 acres) within the 344-acre industrial park located in Visalia (Tulare County). Zone status is also being requested on a permanent basis for the temporary site (25 acres) at the Fresno Yosemite International Airport in Fresno (Site 10, as listed above). The application is also requesting authority to permanently delete a parcel (20 acres) from existing Site 1 and to delete Site 5 in its entirety (118 acres), as well as formalize the deletions made in the boundary modification. The total size of Site 2 will be increased to 251 acres while the size of Site 1 will be decreased to 800 acres. (The following sites would remain unchanged as listed above: 3, 4, 6-9, 11, 12.) No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099-14th Street, NW., Washington, DC 20005; or

2. Submissions via the U.S. Postal Service: Foreign-Trade Zones Board, U.S. Department of Commerce, FCB-Suite 4100W, 1401 Constitution Avenue, NW., Washington, DC 20230.

The closing period for their receipt is November 5, 2002. Rebuttal comments in response to material submitted during the foregoing period may be submitted during the subsequent 15-day period (to November 20, 2002).

A copy of the application and accompanying exhibits will be available during this time for public inspection at address Number 1 listed above, and at the Merced County Action Business Center, 2000 M Street, Merced, CA 95340.

Dated: August 26, 2002.
Dennis Puccinelli,
Executive Secretary.

[FR Doc. 02-22747 Filed 9-5-02; 8:45 am]

BILLING CODE 3510-DS-P